DEPARTMENT OF ENERGY

Proposed Agency Information Collection

AGENCY: U.S. Department of Energy (DOE).

ACTION: Notice and request for comments.

SUMMARY: The Department of Energy (DOE) invites public comment on a proposed collection of information that DOE is developing for submission to the Office of Management and Budget (OMB) pursuant to the Paperwork Reduction Act of 1995. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before January 9, 2012. If you anticipate difficulty in submitting comments within that period, contact the person listed in ADDRESSES as soon as possible.

ADDRESSES: Written comments may be sent to Monica Neukomm, EE-20/Forrestal Building, 1000 Independence Avenue SW., Washington, DC 20585 or by fax at (202) 586-9260 or by email at Monica.Neukomm@EE.doe.gov.

FOR FURTHER INFORMATION CONTACT: Requests for additional information or copies of the information collection instrument and instructions should be directed to Monica Neukomm, EE-20/Forrestal Building, 1000 Independence Avenue, SW., Washington, DC 20585, Monica.Neukomm@EE.doe.gov.

SUPPLEMENTARY INFORMATION: This information collection request contains:

(1) OMB No. New.

(2) Information Collection Request Title: Department of Energy Better Buildings Challenge Information Collection Request.

(3) Type of Request: New.

(4) Purpose: The information being collected is needed to include participants in the Department of Energy (DOE) Better Buildings Challenge program. The Better Buildings Challenge is a voluntary leadership initiative intended to drive greater energy efficiency in the commercial and industrial marketplace to create real savings and real jobs. This will be accomplished by highlighting the ways participants overcome market barriers/persistent obstacles with replicable, marketplace solutions. The program will showcase real solutions and partner with industry leaders to better understand policy and technical opportunities. There are three types of information to be collected from “Partners,” the primary participant type, being: (1) Background data, including contact information, a partnership agreement form, logo(s), information needed to support public announcements, updates on participants' showcase projects, and an energy savings goal; (2) Portfolio-wide facility-level energy performance information; and (3) Information on market innovations they are including in their energy efficiency processes. Background information will primarily be used to develop Web site content that will be publically available. Portfolio-wide facility-level energy performance information will be used by DOE to measure the progress of participants in meeting the goals of the program, as well as to aggregate the change in energy performance and related metrics for the entire program. Information on market innovation will be used to highlight successful strategies participants use to overcome challenges, and will be publicly available. Additional information collected from “Allies” will primarily be background information that will be used to develop publically available Web site content.

(5) Annual Estimated Number of Respondents: 130.

(6) Annual Estimated Number of Total Responses: 710.

(7) Annual Estimated Number of Burden Hours: 465.

(8) Annual Estimated Reporting and Recordkeeping Cost Burden: $0.

Statutory Authority: Section 421 of the Energy Independence and Security Act of 2007 (42 U.S.C. 17081); Section 911 of the Energy Policy Act of 2005, as amended (42 U.S.C. 16191).

Issued in Washington, DC, on October 27, 2011.
Maria Vargas,
Director Better Buildings Challenge, Buildings Technology Program.

[FR Doc. 2011-28918 Filed 11-7-11; 8:45 am]

BILLING CODE 6450-01-P